DEPARTMENT OF EDUCATION

Extension of the Application Deadline Date; Applications for New Awards; Office of Indian Education (OIE) Formula Grant to Local Educational Agencies

AGENCY: Office of Elementary and Secondary Education, Department of Education.

ACTION: Notice.

SUMMARY: On February 7, 2020, we published in the Federal Register a notice of application deadline for the fiscal year (FY) 2020 OIE Formula Grants, Catalog of Federal Domestic Assistance (CFDA) number 84.060. On March 2, 2020, we published in the Federal Register a notice correcting the original notice of application deadline to extend the deadline for Part I of the OIE Formula Grant application, and updated the program contact information. This notice extends the deadline date for transmittal of Part II of Electronic Application System for Indian Education (EASIE) applications until June 19, 2020 at 11:59 p.m.

DATES: Deadline for Transmittal of EASIE Part II: June 19, 2020.

FOR FURTHER INFORMATION CONTACT: Dr. Crystal C. Moore, U.S. Department of Education, 400 Maryland Avenue SW, Room 3W236, Washington, DC 20202. Telephone: (202) 453-5593. Email: Indian_Education@ed.gov.

If you use a telecommunications device for the deaf (TDD) or a text telephone (TTY), call the Federal Relay Service, toll free, at 1-800-877-8339.

SUPPLEMENTARY INFORMATION: On February 7, 2020, we published in the Federal Register (85 FR 7298) a notice of application deadline for the FY 2020 OIE Formula Grants, CFDA number 84.060. On March 2, 2020, we published in the Federal Register (85 FR 12279) a notice correcting the original notice of application deadline to extend the deadline for Part I of the EASIE application for OIE Formula Grants, and updated the program contact information.¹ We are extending the deadline for transmittal of Part II of EASIE applications to June 19, 2020 at 11:59 p.m.

¹ www.federalregister.gov/documents/2020/03/02/2020-04255/indian-education-formula-grants-to-local-educational-agencies.

We are extending the deadline date for transmittal of applications in order to allow applicants impacted by recent school closures related to the COVID-19 pandemic additional time to submit their applications or amended applications. This extended deadline for transmittal of applications applies to all OIE applicants.

Note: All other information in the February 7 and March 2, 2020 notices of application deadlines (85 FR 7298 and 85 FR 12279) and the other application requirements, including application submission instructions and requirements, remain the same.

Information about the OIE Programs is available on the Department's website at https://oese.ed.gov/offices/office-of-indian-education/indian-education-formula-grants/.

Program Authority: Sections 6111-6119 of the Elementary and Secondary Education Act of 1965, as amended, 20 U.S.C. 7421-7429.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Frank T. Brogan,
Assistant Secretary for Elementary and Secondary Education.

[FR Doc. 2020-08532 Filed 4-22-20; 8:45 am]

BILLING CODE 4000-01-P